EXPORT-IMPORT BANK

[Public Notice 2013-6004]

Agency Information Collection Activities: Comment Request

AGENCY: Export-Import Bank of the United States.

ACTION: Submission for OMB review and comments request.

Form Title: EIB 92-29 Export-Import Bank Report of Premiums Payable for Exporters Only.

SUMMARY: The Export-Import Bank of the United States (Ex-Im Bank), as part of its continuing effort to reduce paperwork and respondent burden, invites the general public and other Federal Agencies to comment on the proposed information collection, as required by the Paperwork Reduction Act of 1995.

This collection of information is necessary, pursuant to 12 U.S.C. 635(a)(1), to determine eligibility of export sales for insurance coverage.

The information collection tool can be reviewed at: http://www.exim.gov/pub/pending/eib92-29.pdf

DATES: Comments must be received on or before November 4, 2013 to be assured of consideration.

ADDRESSES: Comments may be submitted electronically on www.regulations.gov or by mail to Michele Kuester, Export-Import Bank of the United States, 811 Vermont Ave. NW., Washington, DC.

SUPPLEMENTARY INFORMATION: Title and Form Number: EIB 92-29 Export-Import Bank Report of Premiums Payable for Exporters Only

OMB Number: 3048-0017

Type of Review: Regular

Need and Use: The “Report of Premiums Payable for Exporters Only” form is used by exporters to report and pay premiums on insured shipments to various foreign buyers under the terms of the policy and to certify that premiums have been correctly computed and remitted. Individual transactions that an exporter may have with the same foreign borrower can be sub-totaled and entered as a single line item for the specific month provided the length of payment term is identical. The use of sub-totals reduces the administrative burden on the exporter. The `Report of Premiums Payable for Exporters Only' is used by the Bank to determine the eligibility of the shipment(s) and to calculate the premium due to Ex-Im Bank for its support of the shipment(s) under its insurance program.

Affected Public:

This form affects entities involved in the export of U.S. goods and services.

Annual Number of Respondents: 2,600.

Estimated Time per Respondent: 15 minutes.

Annual Burden Hours: 7,800.

Frequency of Reporting of Use: Monthly.

Government Expenses:

Reviewing time per year: 7,800 hours.

Average Wages per Hour: $42.50.

Average Cost per Year: $331,500 (time*wages).

Benefits and Overhead: 20%.

Total Government Cost: $397,800.

Kalesha Malloy,
Agency Clearance Officer, Office of the Chief Information Officer.

[FR Doc. 2013-21504 Filed 9-4-13; 8:45 am]

BILLING CODE 6690-01-P